DEPARTMENT OF JUSTICE

Antitrust Division

Notice Pursuant to The National Cooperative Research and Production Act Of 1993—Resilient Infrastructure + Secure Energy Consortium

Notice is hereby given that, on November 5, 2021, pursuant to Section 6(a) of the National Cooperative Research and Production Act of 1993, 15 U.S.C. 4301 et seq. (“the Act”), the Resilient Infrastructure + Secure Energy Consortium (“RISE”) has filed written notifications simultaneously with the Attorney General and the Federal Trade Commission disclosing changes in its membership. The notifications were filed for the purpose of extending the Act's provisions limiting the recovery of antitrust plaintiffs to actual damages under specified circumstances. Specifically, 360 Network Solutions, Marietta, GA; ABM Nano LLC, Sugar Land, TX; Advanced Ceramic Fibers LLC, Idaho Falls, ID; Advanced Remote Sensing, Inc., Hartford, SD; Aequor, Inc., San Diego, CA; Aerojet Rocketdyne, Inc., Huntsville, AL; Akita Innovations LLC, North Billerica, MA; Alaska Applied Sciences, Inc., Juneau, AK; AlchLight LLC, Rochester, NY; ALD Technical Solutions, San Diego, CA; American Battery Solutions, Birmingham, MI; American Defense International, Washington, DC; American Ecotech, Warren, RI; Ampcontrol Technologies, Inc., New York, NY; Apex Clean Energy Holdings LLC, Charlottesville, VA; ARC Technology LLC, Whitewater, KS; Archaius LLC, Durham, NC; Ascent Solar Technologies, Inc., Thornton, CO; Aspen Hybrid Technology Solutions, Berthoud, CO; Atomic Electronic Weight Chips and Circuits, Inc., Brooklyn, NY; Atrevida Science, Amherst, NY; Autonodyne LLC, Boston, MA; AVO Multiamp Corp. dba SebaKMT dba Megger, Norristown, PA; Axion Technologies LLC, Bolingbrook, IL; Beyond Silicon, Inc., Chandler, AZ; Blitzz, Inc., Los Gatos, CA; Blueskytec America LLC, Charlotte, NC; Blyncsy, Salt Lake City, UT; BOSS Controls, Inc., Ligonier, PA; BWR Innovations LLC, Fargo, ND; C5BDI, Virginia Beach, VA; Caliola Engineering, Colorado Springs, CO; CAMX Power LLC, Lexington, MA; CarbonCycle LLC, Mansfield, MO; Christie Bell Incorporated, Belgrade, MT; CleanO2 Carbon Capture Technologies, Inc., Calgary, CANADA; Clemson University Research Foundation, Clemson, SC; Colorado Renewable Energy Society, Golden, CO; Colvin Run Networks, Inc., Leesburg, VA; Cornerstone Research Group, Inc., Miamisburg, OH; Critical Infrastructure Investments, Inc., Tucson, AZ; Crowley Government Solutions, Jacksonville, FL; Curiosity Lab at Peachtree Corners, Peachtree Corners, GA; Custom Electronics, Inc., Oneonta, NY; Cymbet Corporation, New Brighton, MN; deeptraffic—Traffic and Mobility Management Technologies P.C., Thessaloniki, GREECE; Deloitte Consulting LLP, Arlington, VA; Densec ID, Scottsdale, AZ; Disaster Tech, Alexandria, VA; Dynetics, Inc., Huntsville, AL; Eagle Mines Management, Salt Lake City, UT; EarthEn, Inc., Chandler, AZ; EastWest Enterprises LLC, Los Angeles, CA; Echogen Power Systems, Akron, OH; Element Environmental LLC, Aiea, HI; Elk Coast Institute, Point Arena, CA; EMPEQ, Ithaca, NY; Energy and Security Group, Reston, VA; Energy Systems Group, Newburgh, IN; EnergyLink3, Boyds, MD; EnergynTech, Inc., Lakewood, CO; Enersion, Inc., San Diego, CA; Epic Advanced Materials, Los Angeles, CA; ePropelled, Lowell, MA; Evolve Hydrogen, Inc., East Northport, NY; Exacter, Inc., Columbus, OH; Fend Incorporated, Arlington, VA; Flexodes, Inc., Sugar Land, TX; FLITE Material Sciences US, Inc., Somerville, MA; For Good Ventures, San Francisco, CA; FuseRing, London, CANADA; Gelion Technologies, Alexandria, AUSTRALIA; General Technical Services LLC, Wall Township, NJ; GEOKERI, Mexico City, MEXICO; Georgia Tech Research Institute, Smyrna, GA; Go Electric, Anderson, IN; Goodman Technologies LLC, Albuquerque, NM; Graphene Layers, North Brunswick, NJ; Great Lakes Crystal Technologies, East Lansing, MI; Greer Consulting LLC, Washington, DC; GridPlex Networks, West Chester, PA; GROW Oyster Reefs LLC, Charlottesville, VA; GS Research LLC, Bay St Louis, MS; Halovation LLC, Land O Lakes, FL; Hannon Armstrong, Annapolis, MD; Heat Inverse LLC, Ithaca, NY; Hitachi Americas, Ltd, Santa Clara, CA; Homeland Technologies LLC, Columbia, MO; Hydrobee SPC, Seattle, WA; infiniRel Corporation, Santa Cruz, CA; Institute for Smart, Secure and Connected Systems (ISSACS), Case Western Reserve University, Cleveland, OH; Intelligent Security Systems Corporation, Woodbridge, NJ; Intelligent Visioneering LLC, Nashua, NH; Inventev LLC, Detroit, MI; IoTAI, Inc., Fremont, CA; Johnson Research & Development Co., Inc., Atlanta, GA; Karagozian & Case, Inc., Glendale, CA; Katz Water Technologies, Houston, TX; Kinnami Software Corporation, State College, PA; Kris Deuar & Associates, Inc., Warrensburg, MO; KRyanCreative LLC, Mount Pleasant, SC; Lattice Industries, Inc., Wilmington, DE; Latticet, Reston, VA; LDS Technology Consultants, Inc., Corpus Christi, TX; Linc Research, Huntsville, AL; Los Alamos National Laboratory, Los Alamos, NM; Mack Defense LLC, Allentown, PA; Mainspring Energy, Inc., Menlo Park, CA; Mantel Technologies, Tacoma, WA; MassCEC, Boston, MA; Max Powers LLC, Brooklyn, NY; MC2 Energy Solutions, Inc., Los Angeles, CA; MDI B.V., Rotterdam, NETHERLANDS; MSBAI, Los Angeles, CA; NALA Systems, Inc., RTP, NC; Namatad, Inc., Tacoma, WA; NextEra Energy, Inc., Juno Beach, FL; NuTech LLC, Fort Washington, MD; Omnitek Partners LLC, Ronkonkoma, NY; Open Range Capital Partners LLC, Marietta, GA; Opterro, Inc., San Jose, CA; Optics11, Amsterdam, NETHERLANDS; Optowares, Woburn, MA; Osazda Energy, Albuquerque, NM; Paired Power, Campbell, CA; Peace Haven Corp, Ashburn, VA; Penn State University, University Park, PA; Perfecta, Springfield, VA; Peters Geosciences, Lakewood, CO; Phoenix Group of Virginia, Chesapeake, VA; Physical Sciences, Inc., Andover, MA; Picogrid, Hawthorne, CA; PlanIT Impact, Kansas City, MO; Polymaterials App LLC, Tampa, FL; Powdermet, Inc., Euclid, OH; Prisere LLC, Cranston, RI; Process Transformation Technologies—Laboratory of America LLC, Corvallis, OR; Quino Energy, Inc., Menlo Park, CA; RDA Technical Services, Fort Myers, FL; re:3D, Inc., Houston, TX; Reactwell LLC, New Orleans, LA; Redhorse Corporation, Arlington, VA; Regeneration.VC, Redondo Beach, CA; REGENT Craft, Inc., Burlington, MA; Resilient Power Works LLC, Hagerstown, MD; ResilienX, Inc., Syracuse, NY; Resolved Analytics, Durham, NC; Resonant Link, Shelburne, VT; Riverside Research Institute, Arlington, VA; Robert Bosch LLC, Farmington Hills, MI; Rogante Engineering Office, Civitanova Marche, ITALY; Rogers Corporation, Chandler, AZ; RPI Group, Inc., Fredericksburg, VA; RUNWITHIT Synthetics, Inc., Sherwood Park, CANADA; Ryzing Technologies, Staunton, VA; Select Engineering Services, Layton, UT; Semper Fortis Solutions LLC dba Fornetix Federal, Frederick, MD; Sequentric Energy Systems LLC, Roswell, GA; Shoreline Computing, Sunnyvale, CA; Shower Stream, Austin, TX; Silpara Technologies, Decatur, GA; Siradel, Toronto, CANADA; Sisterm Thermal Systems, Campinas, BRAZIL; SkySpotter, Austin, TX; Smart Walls Construction, Buffalo, NY; Smart Yields, Honolulu, HI; Solar Roadways Incorporated, Sandpoint, ID; Solar Tonic LLC, Ypsilanti, MI; Solugen, Houston, TX; Sonalysts, Inc., Waterford, CT; Spectrum Comm, Inc., Newport News, VA; Steel Modular, Inc., Essex, CT; SurClean, Inc., Brownsburg, IN; Switched Source LLC, Chicago, IL; Sync, Inc., Birmingham, AL; Tecogen, Waltham, MA; Tenaska, Inc., Omaha, NE; TensTech, Inc., Matthews, NC; Tesseract Ventures, Overland Park, KS; Tetramer, Pendleton, SC; Texas A&M University, Galveston, TX; The Center for Green Materials Research at The State University of New Jersey, Piscataway, NJ; The Center for Simulation and Synthetic Humans at the University of Texas at Dallas, Richardson, TX; ThermaWatts LLC, Renton, WA; ThermoLift, Stony Brook, NY; Titan Power LLC, Temple Hills, MD; TRIDEC Services, Inc., Raleigh, NC; Tufts University, Medford, MA; Unison Energy LLC, Greenwich, CT; University of Colorado Boulder, Boulder, CO; University of Messina: Department of Mathematical and Computer Sciences, Physical Sciences, and Earth Sciences, Messina, ITALY; University of New Hampshire, Durham, NH; University of New South Wales, Kensington, AUSTRALIA; University of South Wales, Pontypridd, UNITED KINGDOM; University of Tennessee, Knoxville, TN; University Technical Services, Greenbelt, MD; Urban Electric Power, Inc., Pearl River, NY; VAST Power Systems, Inc., Chicago, IL; Velammal College of Engineering and Technology, Madurai, INDIA; Villanova University, Villanova, PA; Waiea Water Solutions LLC, Honolulu, HI; Whether, Inc., Stamford, CT; Xairos Systems, Inc., Lone Tree, CO; Xona Space Systems, San Mateo, CA; and XTRLs International, Inc., San Diego, CA, have been added as parties to this venture.

No other changes have been made in either the membership or planned activity of the group research project. Membership in this group research project remains open, and RISE intends to file additional written notifications disclosing all changes in membership.

On July 2, 2021, RISE filed its original notification pursuant to Section 6(a) of the Act. The Department of Justice published a notice in the Federal Register pursuant to Section 6(b) of the Act on August 23, 2021 (86 FR 47155).

Suzanne Morris,
Chief, Premerger and Division Statistics, Antitrust Division.

[FR Doc. 2021-25714 Filed 11-23-21; 8:45 am]

BILLING CODE P